DEPARTMENT OF COMMERCE

Bureau of Industry and Security

15 CFR Part 744

Control Policy: End-User and End-Use Based

CFR Correction

In Title 15 of the Code of Federal Regulations, Parts 300 to 799, revised as of January 1, 2017, on page 498, in supplement number 4 to part 744, under United Arab Emirates, remove the entry for “Indira Mirchandani”.

[FR Doc. 2017-13802 Filed 6-29-17; 8:45 am]

BILLING CODE 1301-00-P